DEPARTMENT OF COMMERCE

International Trade Administration

[A-570-888]

Floor-Standing, Metal-Top Ironing Tables and Certain Parts Thereof From the People's Republic of China: Final Results of Changed Circumstances Review and Continuation of the Order

AGENCY: Enforcement and Compliance, International Trade Administration, Department of Commerce.

SUMMARY: The U.S. Department of Commerce (Commerce) has determined not to revoke the order on floor-standing, metal-top ironing tables and certain parts thereof from the People's Republic of China (China).

DATES: Applicable April 19, 2023.

FOR FURTHER INFORMATION CONTACT: Michael J. Heaney, AD/CVD Operations, Office VI, Enforcement and Compliance, International Trade Administration, U.S. Department of Commerce, 1401 Constitution Avenue NW, Washington, DC 20230; telephone: (202) 482-4475.

SUPPLEMENTARY INFORMATION:

Background

On July 18, 2022, Commerce published the Initiation and Preliminary Results of this changed circumstances review (CCR) in the Federal Register.¹ For a complete description of the events that followed the Initiation and Preliminary Results, see the Issues and Decision Memorandum.²

¹ See Floor-Standing Metal Top Ironing Tables and Certain Parts Thereof from the People's Republic of China: Initiation and Preliminary Results of Changed Circumstances Review and Intent to Revoke Order, 87 FR 42700 (July 18, 2022) (Initiation and Preliminary Results).

² See Memorandum, “Decision Memorandum for Final Results of Antidumping Duty Changed Circumstances Review: Floor-Standing, Metal-Top Ironing Tables and Certain Parts Thereof from the People's Republic of China,” dated concurrently with, and hereby, adopted by, this notice (Issues and Decision Memorandum).

Scope of the Order ³

³ See Notice of Amended Final Determination of Sales at Less Than Fair Value and Antidumping Duty Order: Floor-Standing, Metal-Top Ironing Tables and Certain Parts Thereof from the People's Republic of China, 69 FR 47868 (August 6, 2004) (Order).

For purposes of this Order, the product covered consists of floor-standing, metal-top ironing tables, assembled or unassembled, complete or incomplete, and certain parts thereof. The subject ironing tables were previously classified under Harmonized Tariff Schedule of the United States (HTSUS) subheading 9403.20.0010. Effective July 1, 2003, the subject ironing tables are classified under new HTSUS subheading 9403.20.0011. The subject metal top and leg components are classified under HTSUS subheading 9403.90.8040. Although the HTSUS subheadings are provided for convenience and for Customs and Border Protection (CBP) purposes, Commerce's written description of the scope remains dispositive. For a full description of the scope of the Order, see the Issues and Decision Memorandum.

Analysis of Comments Received

All issues raised by the interested parties in their case and rebuttal briefs are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Changed Circumstances Review and Determination Not To Revoke

Section 751(d)(1) of the Tariff Act of 1930, as amended (the Act) and 19 CFR 351.222(g)(1)(i) provide that Commerce may revoke an order (in whole or in part) if it determines that producers accounting for substantially all of the production of the domestic like product have expressed a lack of interest in the order, in whole or in part.⁴ Further, 19 CFR 351.222(g)(2) provides that Commerce will conduct a CCR under 19 CFR 351.216, and may revoke an order, in whole or in part, if it determines that revocation is warranted.

⁴ See section 782(h) of the Act.

Seymour Mfg. LLC demonstrated that it is a domestic producer of ironing tables and has expressed interest in the continuation of the Order. Therefore, Commerce has determined not to revoke the Order.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and the terms of an APO is a violation subject to sanction.

Notification to Interested Parties

This determination is issued and published in accordance with sections 751(b)(1) and 777(i) of the Tariff Act of 1930, as amended, and 19 CFR 351.216(e).

Dated: April 12, 2023.
Lisa W. Wang,
Assistant Secretary for Enforcement and Compliance.

Appendix

List of Topics Discussed in the Issues and Decision Memorandum

I. Summary

II. Background

III. Scope of the Order

IV. Changes Since the Initiation and Preliminary Results

V. Discussion of the Issue

Comment: Whether Seymour Qualifies as a U.S. Domestic Interested Party Engaged in the Production of Ironing Tables

VI. Recommendation

[FR Doc. 2023-08232 Filed 4-18-23; 8:45 am]

BILLING CODE 3510-DS-P